ENVIRONMENTAL PROTECTION AGENCY

[EPA-HQ-OPPT-2003-0004;FRL-8101-6]

Access to Confidential Business Information by ASRC Management Services, Incorporated

AGENCY: Environmental Protection Agency (EPA).

ACTION: Notice.

SUMMARY: EPA has authorized ASRC Management Services, Incorporated access to information which has been submitted to EPA under all sections of the Toxic Substances Control Act (TSCA). Some of the information may be claimed or determined to be Confidential Business Information (CBI).

DATES: Access to the confidential data will occur no sooner than November 9, 2006.

FOR FURTHER INFORMATION CONTACT: For general information contact: Colby Lintner, Regulatory Coordinator, Environmental Assistance Division (7408M), Office of Pollution Prevention and Toxics, Environmental Protection Agency, 1200 Pennsylvania Ave., NW., Washington, DC 20460; telephone number: (202) 554-1404; e-mail address: TSCA-Hotline@.epa.gov.

For technical information contact: Scott M. Sherlock, TSCA Security Staff, Environmental Assistance Division (7408M), Office of Pollution Prevention and Toxics, Environmental Protection Agency, 1200 Pennsylvania Ave., NW., Washington, DC 20460; telephone number: (202) 564-8257; e-mail address: sherlock.scott@epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the technical person listed under FOR FURTHER INFORMATION CONTACT.

B. How Can I Get Copies of this Document and Other Related Documents?

1. Docket. EPA has established an official public docket for this action under docket identification (ID) number EPA-HQ-OPPT-2003-0004. The official public docket consists of the documents specifically referenced in this action, any public comments received, and other information related to this action. Although a part of the official docket, the public docket does not include CBI or other information whose disclosure is restricted by statute. The official public docket is the collection of materials that is available for public viewing at the EPA Docket Center, EPA West, Infoterra Room, Room 3334,1301 Constitution Ave., NW., Washington, DC. The EPA Docket Center is open from 8:30 a.m. to 4:30 p.m., Monday through Friday, excluding legal holidays. The EPA Docket Center Reading Room telephone number is (202) 566-1744, and the telephone number for the OPPT Docket, which is located in the EPA Docket Center, is (202) 566-0280.

2. Electronic access. You may access this Federal Register document electronically through the EPA Internet under the “Federal Register” listings at http://www.epa.gov/fedrgstr/.

II. What Action is the Agency Taking?

Under Contract Number EP-W-05-052, ASRC of 6303 Ivy Lane, Suite 300, Greenbelt, MD, will assist EPA in managing the Non-confidential Information Center (NCIC). ASRC will provide current and historical reports on all TSCA non-CBI submissions received in compliance with TSCA; organize, distribute and prepare records for permanent storage; and handle all docket-related records for OPPT, in accordance with the TSCA Security Manual.

In accordance with 40 CFR 2.306(j), EPA has determined that under Contract Number EP-W-05-052, ASRC will require access to CBI submitted to EPA under all sections of TSCA, to perform successfully the duties specified under this contract.

ASRC personnel will be given information submitted to EPA under all sections of TSCA. Some of the information may be claimed or determined to be CBI.

EPA is issuing this notice to inform all submitters of information under all sections of TSCA that the Agency will be providing ASRC access to these CBI materials on a need-to-know basis only. All access to TSCA CBI under this arrangement will take place at EPA Headquarters.

Clearance for access to TSCA CBI under this arrangement may continue until October 18, 2010, unless the underlying contract performance period is extended.

ASRC personnel will be required to sign non-disclosure agreements and be briefed on appropriate security procedures before they are permitted access to the CBI.

List of Subjects

Environmental protection, Confidential business information.

Dated: October 26, 2006.
Brion Cook,
Director, Office of Pollution Prevention and Toxics

[FR Doc. E6-18490 Filed 11-1-06; 8:45 am]

BILLING CODE 6560-50-S